ENVIRONMENTAL PROTECTION AGENCY

[FRL-8518-4]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1975.04; NESHAP for Stationary Reciprocating Internal Combustion Engines (Renewal); in 40 CFR part 63, subpart ZZZZ; was approved 12/07/2007; OMB Number 2060-0548; expires 12/31/2008.

EPA ICR Number 1176.08; NSPS for New Residential Wood Heaters (Renewal); in 40 CFR part 60, subpart AAA; was approved 12/28/2007; OMB Number 2060-0161; expires 12/31/2010.

EPA ICR Number 0234.09; Performance Evaluation Studies on Water and Wastewater Laboratories (Renewal); was approved 12/31/2007; OMB Number 2080-0021; expires 12/31/2010.

EPA ICR Number 2264.01; NSPS for New Residential Wood Heaters (Renewal); was approved 12/31/2007; OMB Number 2040-0276; expires 12/31/2008.

EPA ICR Number 1078.08; NSPS for Phosphate Rock Plants (Renewal); in 40 CFR part 60, subpart NN; was approved 01/10/2008; OMB Number 2060-0111; expires 01/31/2011.

EPA ICR Number 1158.09; NSPS for Rubber Tire Manufacturing (Renewal); in 40 CFR part 60, subpart BBB; was approved 01/10/2008; OMB Number 2060-0156; expires 01/31/2011.

EPA ICR Number 1693.05; Plant-Incorporated Protectants; CBI Substantiation and Adverse Effects Reporting (Renewal); in 40 CFR 174.9 and 174.71; was approved 01/11/2008; OMB Number 2070-0142; expires 01/31/2011.

EPA ICR Number 1643.06; Application Requirements for the Approval and Delegation of Federal Air Toxics Programs to State, Territorial, Local, and Tribal Agencies (Renewal); in 40 CFR part 63, subpart E; was approved 01/11/2008; OMB Number 2060-0264; expires 01/31/2011.

Comment Filed

EPA ICR Number 2274.01; NESHAP for Clay Ceramics Manufacturing, Glass Manufacturing and Secondary Nonferrous Metals Processing Area Sources (Proposed Rule); OMB filed comments on 12/13/2007.

EPA ICR Number 2268.01; NESHAP for Paint Stripping and Miscellaneous Surface Coating at Area Sources (Proposed Rule); OMB filed comments on 12/13/2007.

EPA ICR Number 2277.01; NESHAP for Area Sources: Electric Arc Furnace Steelmaking Facilities (Proposed Rule); OMB filed comments on 12/14/2007.

EPA ICR Number 1587.08; Federal Operating Permit Regulations (40 CFR part 70) (Proposed Rule for Flexible Air Permits); OMB filed comments on 12/28/2007.

EPA ICR Number 1230.20; Prevention of Significant Deterioration and Non-Attainment New Source Review (40 CFR parts 51 and 52) (Proposed Rule for Flexible Air Permits); OMB filed comments on 12/28/2007.

EPA ICR Number 1713.07; Federal Operating Permit Regulations (40 CFR part 71) (Proposed Rule for Flexible Air Permits); OMB filed comments on 12/28/2007.

Discontinued

EPA ICR Number 2028.01; OMB Number 2060-0551; NESHAP for Industrial, Commercial, and Institutional Boilers and Process Heaters (40 CFR part 63, subpart DDDDD) was discontinued by the Agency on 12/31/2007.

Dated: January 15, 2008.
Sara Hisel-McCoy,
Director, Collection Strategies Division.

[FR Doc. E8-1095 Filed 1-22-08; 8:45 am]

BILLING CODE 6560-50-P